NATIONAL SCIENCE FOUNDATION

Notice of Availability of a Record of Decision Following a Final Comprehensive Environmental Evaluation (CEE) for Continuation and Modernization of McMurdo Station Area Activities in Antarctica

AGENCY: National Science Foundation.

ACTION: Notice of availability.

SUMMARY: The National Science Foundation (NSF) gives notice of the availability of a Record of Decision following a Final Comprehensive Environmental Evaluation (CEE) for Continuation and Modernization of McMurdo Station Area Activities, pursuant to the Antarctic Conservation Act, as amended, its implementing regulations, and in accordance with the Protocol on Environmental Protection to the Antarctic Treaty. The proposed activity would implement modernization projects at McMurdo Station while continuing United States Antarctic Program science and operations at McMurdo Station and locations supported by the Station.

ADDRESSES: Copies of the Notice of Availability of the Record of Decision are available upon request from Dr. Polly A. Penhale, Senior Advisor, Environment, Office of Polar Programs, National Science Foundation, 2415 Eisenhower Avenue, Alexandria, Virginia 22314 or CEE.comments@nsf.gov.

FOR FURTHER INFORMATION CONTACT: For further information regarding the CEE process, please contact Dr. Polly A. Penhale, at the above address, 703-292-8030, or CEE.comments@nsf.gov.

SUPPLEMENTARY INFORMATION: Article 3 of Annex I to the Protocol on Environmental Protection to the Antarctic Treaty requires the preparation of a CEE for any proposed Antarctic activity likely to have more than a minor or transitory impact. The draft CEE was made available to Antarctic Treaty Parties and the Committee for Environmental Protection to the Antarctic Treaty for a 120-day period, as specified above.

The draft CEE was published in the Federal Register (Vol. 84, No. 76/Friday, April 19, 2019, Page 16547) for a 90-comment period, as specified in 45 CFR 641.18.

Comments were received and considered as described in the Final CEE for Continuation and Modernization of McMurdo Station Area Activities in Antarctica. The Final CEE was published in the Federal Register (Vol 84, No. 159, Friday, August 16, 2019, Page 42021).

The Final CEE may be viewed by interested parties at https://www.acpt.nsf.gov/geo/opp/antarct/treaty/cees/AIMS/Final%20CEE_McMurdo%20Modernization_v8_05Aug2019.pdf.

Additional information on the proposed actions and purpose and need was provided in the Notice of Intent to prepare a CEE published in the Federal Register (Vol. 81, No. 164/Wednesday, August 24, 2016, Pages 57940-57941).

Erika N. Davis,
Program Specialist, Office of Polar Programs.

[FR Doc. 2019-21173 Filed 9-27-19; 8:45 am]

BILLING CODE 7555-01-P